DEPARTMENT OF JUSTICE

Antitrust Division

Notice Pursuant to the National Cooperative Research and Production Act of 1993—Opendaylight Project, Inc.

Notice is hereby given that, on April 21, 2014 pursuant to Section 6(a) of the National Cooperative Research and Production Act of 1993, 15 U.S.C. 4301 et seq. (“the Act”), OpenDaylight Project, Inc. (“OpenDaylight”) has filed written notifications simultaneously with the Attorney General and the Federal Trade Commission disclosing changes in its membership. The notifications were filed for the purpose of extending the Act's provisions limiting the recovery of antitrust plaintiffs to actual damages under specified circumstances. Specifically, Qosmos, Paris, FRANCE; 6Wind, Montigny-le-Bretonneux, FRANCE; Hangzhou H3C Technologies Co., Ltd., Hangzhou, PEOPLE'S REPUBLIC OF CHINA; Avaya Inc., Santa Clara, CA; and Oracle Corp., Santa Clara, CA, have been added as parties to this venture.

No other changes have been made in either the membership or planned activity of the group research project. Membership in this group research project remains open, and OpenDaylight intends to file additional written notifications disclosing all changes in membership.

On May 23, 2013, OpenDaylight filed its original notification pursuant to Section 6(a) of the Act. The Department of Justice published a notice in the Federal Register pursuant to Section 6(b) of the Act on July 1, 2013 (78 FR 39326).

The last notification was filed with the Department on February 5, 2014. A notice was published in the Federal Register pursuant to Section 6(b) of the Act on March 4, 2014 (79 FR 12223).

Patricia A. Brink,
Director of Civil Enforcement, Antitrust Division.

[FR Doc. 2014-11336 Filed 5-15-14; 8:45 am]

BILLING CODE P